ARCHITECTURAL AND TRANSPORTATION BARRIERS COMPLIANCE BOARD

36 CFR Part 1195

[Docket Nos. 2004-1; 2004-2]

RIN 3014-AA11

Americans With Disabilities Act (ADA) Accessibility Guidelines for Passenger Vessels; Large Vessels; Small Vessels

AGENCY: Architectural and Transportation Barriers Compliance Board.

ACTION: Availability of Draft Guidelines; Advance Notice of Proposed Rule; Extension of time to file comments.

SUMMARY: The Architectural and Transportation Barriers Compliance Board (Access Board) has placed in the docket and on its website for public review and comment draft guidelines which address accessibility to and in passenger vessels which are permitted to carry more than 150 passengers or more than 49 overnight passengers. The Access Board has also issued an Advance Notice of Proposed Rulemaking which addresses newly constructed or altered passenger vessels which carry 150 or fewer passengers or 49 or fewer overnight passengers. This document extends the deadline for comments on both the draft guidelines for large vessels and the ANPRM for small vessels.

DATES: Comments on the draft guidelines and the ANPRM must be received by July 28, 2005. Late comments will be considered to the extent practicable.

ADDRESSES: Comments should be sent to the Office of Technical and Information Services, Architectural and Transportation Barriers Compliance Board, 1331 F Street NW., suite 1000, Washington, DC 20004-1111. E-mail comments should be sent to pvag@access-board.gov. Comments sent by e-mail will be considered only if they contain the full name and postal address of the sender in the text. Comments will be available for inspection at the above address from 9 a.m. to 5 p.m. on regular business days.

FOR FURTHER INFORMATION CONTACT: Paul Beatty, Office of Technical and Information Services, Architectural and Transportation Barriers Compliance Board, 1331 F Street, NW., suite 1000, Washington DC 20004-1111. Telephone number (202) 272-0012 (voice); (202) 272-0082 (TTY); Electronic mail address: pvag@access-board.gov.

SUPPLEMENTARY INFORMATION:

Notice of Availability of Draft Guidelines for Large Vessels

On November 26, 2004, the Architectural and Transportation Barriers Compliance Board (Access Board) issued a notice of availability of draft guidelines. The draft guidelines address accessibility to and in passenger vessels covered by the Americans with Disabilities Act, which are permitted to carry more than 150 passengers or more than 49 overnight passengers. (69 FR 69244; November 26, 2004). The notice of availability and the draft guidelines along with supplementary information have been placed in the rulemaking docket and on the Board's Web site (http://www.access-board.gov/pvaac/noa.htm). The Board is soliciting comments on the draft guidelines and will issue a notice of proposed rulemaking (NPRM) following a review of comments received. The notice of availability provided for a deadline of March 28, 2005 for comments to be submitted. This notice extends that deadline.

Advance Notice of Proposed Rulemaking for Small Vessels

Also on November 26, 2004, the Access Board published an Advance Notice of Proposed Rulemaking (ANPRM) in the Federal Register. (69 FR 69245; November 26, 2004). The ANPRM addresses the development of accessibility guidelines for newly constructed or altered passenger vessels covered by the Americans with Disabilities Act, which carry 150 or fewer passengers or 49 or fewer overnight passengers. The ANPRM is also on the Board's Web site at http://www.access-board.gov/pvaac/anprm.htm. The Board requested comments on the ANPRM and provided for a deadline of March 28, 2005. This notice extends that deadline.

Extension of Time for Filing Comments

The Board held a public hearing on the draft guidelines for large vessels and the ANPRM for small vessels on January 10, 2005 in Washington DC. At that time and since the notice of availability was issued, the Board has received requests for an extension of the comment period. Commenters have requested additional time to further review the detailed guidelines and provide in-depth comments. As a result, the Board has extended the time for filing comments by an additional four months. It is also the Board's intention to hold two additional public hearings. The location, date and time of the future hearings will be announced in a subsequent Federal Register notice and on the Board's Web site. The Board believes that the extension of time for comments and the two additional hearings will give the public a better opportunity to provide input on the Board's draft guidelines.

Regulatory Assessment

The Board has also drafted a plan for conducting a regulatory assessment of the passenger vessels guidelines. The plan provides for evaluating the potential impacts of the guidelines on new construction of passenger vessels through case studies, and outlines some methods for examining the impacts of the guidelines on alterations to passenger vessels. The plan is available for public review on the Board's Web site and the Board invites comment on the plan. (http://www.access-board.gov/pvaac/assess-plan.htm).

Department of Transportation

The Department of Transportation (DOT) is conducting a separate rulemaking to adopt the Access Board's guidelines as accessibility standards for passenger vessels covered by the ADA. The DOT rulemaking will also address operational issues related to passenger vessels. DOT issued a separate Advance Notice of Proposed Rulemaking (ANPRM) in the Federal Register on November 26, 2004. (69 FR 69246; November 26, 2004).

Availability of Copies and Electronic Access

Single copies of the passenger vessels rulemaking (Availability of Draft Guidelines, Draft Guidelines and Supplementary Information, Draft Plan for Regulatory Assessment, and ANPRM on Access to and in Small Passenger Vessels) may be obtained at no cost by calling the Access Board's automated publications order line (202) 272-0080, by pressing 2 on the telephone keypad, then 1 and requesting publication S-45. Please record your name, address, telephone number and publication code S-45. Persons using a TTY should call (202) 272-0082. Documents are available in alternate formats upon request. Persons who want a publication in an alternate format should specify the type of format (cassette tape, Braille, large print, or ASCII disk). Documents are also available on the Board's Web site (http://www.access-board.gov).

Lawrence W. Roffee,
Executive Director, Architectural and Transportation Barriers Compliance Board.

[FR Doc. 05-5636 Filed 3-22-05; 8:45 am]

BILLING CODE 8150-01-P